DEPARTMENT OF JUSTICE

Notice of Lodging of Settlement Agreement Pursuant to the Comprehensive Environmental Response, Compensation and Liability Act and Chapter 11 of Title 11 of the United States Bankruptcy Code

In accordance with the policy of the Department of Justice, notice is hereby given that on December 10, 2001, a proposed settlement agreement in United States v. American Allied Additives, Inc., et al., Civil Action No. 00-01014, was lodged with the United States District Court for the Northern District of Ohio. The proposed settlement agreement would resolve the United States' claim against defendant Gibson-Homans Company pursuant to section 107 of the Comprehensive Environmental Response, Compensation and Liability Act of 1980, as amended (“CERCLA”), 42 U.S.C. 9607, in connection with the American Allied Additives Superfund Site in Cleveland, Ohio. Under the proposed settlement agreement, the United States' claim would be allowed as a pre-petition general unsecured claim for $24,050 in Gibson-Homans' bankruptcy proceeding, In Re: The Gibson-Homans Company, No. 00-50369 (Bankr. N.D. Ohio), pursuant to Chapter 11 of Title 11 of the United States Code, 11 U.S.C. 101, et seq.

For a period of thirty (30) days from the date of this publication, the Department of Justice will receive comments related to the proposed settlement agreement. Comments should be addressed to the Assistant Attorney General, Environment and Natural Resources Division, U.S. Department of Justice, 950 Pennsylvania Avenue, NW., Washington, DC 20530, and should refer to United States v. American Allied Additives, Inc., et al., Civil Action No. 1:00CV1014; D.J. Ref. No. 90-11-2-1318.

The settlement agreement may be examined at the Office of the United States Attorney, 1800 Bank One Center, 600 Superior Avenue, Cleveland, Ohio 44114, and at the U.S. Environmental Protection Agency, Region V, 77 West Jackson Boulevard, Chicago, Illinois 60604. A copy of the settlement agreement may also be obtained by mail from the Consent Decree Library, P.O. Box 7611, U.S. Department of Justice, Washington, DC 20044. In requesting a copy, please enclose a check in the amount of $2.00 (8 pages at 25 cents per page reproduction cost), and please refer to United States v. American Allied Additives, Inc., et al., Civil Action No. 00-01014; D.J. Ref. No. 90-11-2-1318.

William Brighton,
Assistant Chief, Environmental Enforcement Section, Environment and Natural Resources Division.

[FR Doc. 02-1151 Filed 1-15-02; 8:45 am]

BILLING CODE 4410-15-M